ENVIRONMENTAL PROTECTION AGENCY

[EPA-HQ-OPP-2015-0102; FRL-9924-39]

Pesticide Program Dialogue Committee; Extension of Deadline for Nominations

AGENCY: Environmental Protection Agency (EPA).

ACTION: Notice; Extension of nomination period.

SUMMARY: This document extends the deadline for submitting a nomination to serve on the Pesticide Program Dialogue Committee (PPDC) for 30 days from the original deadline of March 16, 2015 to April 16, 2015. The nomination period is being extended to ensure the Agency receives a diverse range of qualified candidates.

DATES: Nominations must be received on or before April 16, 2015.

ADDRESSES: Follow the detailed instructions provided in the Federal Register document of February 13, 2015 (80 FR 8082) (FRL-9922-90).

FOR FURTHER INFORMATION CONTACT: Dea Zimmerman, Designated Federal Officer for the PPDC, telephone number: (312) 353-6344; email address: zimmerman.dea@epa.gov.

SUPPLEMENTARY INFORMATION: In the Federal Register document of February 13, 2015 (80 FR 8082) (FRL-9922-90), EPA invited nominations to be considered for appointment to the PPDC. EPA is hereby extending the deadline for nomination to April 16, 2015.

To submit nominations, please follow the detailed instructions provided under ADDRESSES, in the Federal Register document of February 13, 2015. If you have questions, consult the person listed under FOR FURTHER INFORMATION CONTACT.

Authority: 7 U.S.C. 136 et seq.

Dated: March 11, 2015.
Jack E. Housenger,
Director, Office of Pesticide Programs.

[FR Doc. 2015-06276 Filed 3-17-15; 8:45 am]

BILLING CODE 6560-50-P